DEPARTMENT OF COMMERCE

International Trade Administration

U.S. Department of Commerce Trade Finance Advisory Council

AGENCY: International Trade Administration, U.S. Department of Commerce.

ACTION: Notice of an open meeting.

SUMMARY: The U.S. Department of Commerce Trade Finance Advisory Council (TFAC or the Council) will hold a meeting on Wednesday, March 27, 2019, at the U.S. Department of Commerce, in Washington, DC. The meeting is open to the public with registration instructions provided below.

DATES: Wednesday, March 27, 2019, from approximately 1:00 p.m. to 4:00 p.m. Eastern Daylight Time (EDT). The deadline for members of the public to register, including requests to make comments during the meeting and for auxiliary aids, or to submit written comments for dissemination prior to the meeting, is 5:00 p.m. EDT on Friday, March 22, 2019. Registration, comments, and any auxiliary aid requests should be submitted via email to TFAC@trade.gov.

ADDRESSES: The meeting will be held at the U.S. Department of Commerce, 1401 Constitution Avenue NW, Washington, DC 20230.

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

Background

The TFAC was originally chartered on August 11, 2016, pursuant to discretionary authority and in accordance with the Federal Advisory Committee Act, as amended, 5 U.S.C. App., and re-chartered for a second two-year term on August 9, 2018. The TFAC serves as the principal advisory body to the Secretary of Commerce on policy matters relating to access to trade finance for U.S. exporters, including small- and medium-sized enterprises, and their foreign buyers. The TFAC is the sole mechanism by which the Department of Commerce (the Department) convenes private sector stakeholders to identify and develop consensus-based solutions to trade finance challenges. The Council is comprised of a diverse group of stakeholders from the trade finance industry and the U.S. exporting community, as well as experts from academia and public policy organizations.

On Wednesday, March 27, 2019, the TFAC will hold the first meeting of its 2018-2020 charter term. During the meeting, members will discuss with officials from the Department of Commerce and other agencies current challenges and opportunities to increase access to export financing resources for U.S. exporters. They will also establish priorities, the subcommittees' structure, and milestones for the successful development of recommendations.

Meeting minutes will be available within 90 days of the meeting upon request or on the TFAC's website at www.trade.gov/tfac.

Public Participation

The meeting will be open to the public and there will be limited time permitted for public comments. Members of the public seeking to attend the meeting, or for consideration of any written comments, are required to register in advance by the deadline identified under the DATES caption. This meeting is physically accessible to people with disabilities. Requests for participation at the meeting or for sign language interpretation and other auxiliary aids should be submitted electronically to TFAC@trade.gov. Last minute requests will be accepted but may not be possible to accommodate.

Members of the public may submit written comments concerning TFAC affairs at any time before or after a meeting. Comments may be submitted to Ericka Ukrow, at the contact information indicated above. All comments and statements received, including attachments and other supporting materials, are part of the public record and subject to public disclosure.

Michael Fuchs,
Team Lead, Trade and Project Finance, Office of Finance and Insurance Industries.

[FR Doc. 2019-04830 Filed 3-14-19; 8:45 am]

BILLING CODE 3510-DS-P